DEPARTMENT OF HEALTH AND HUMAN SERVICES

Administration for Community Living

Agency Information Collection Activities; Proposed Collection; Comment Request; Outcome Evaluation of the Long-Term Care Ombudsman Program (LTCOP); OMB#0985-XXXX

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the proposed new information collection requirements related to an outcome evaluation for ACL's Long-term Ombudsman Program (LTCOP).

DATES: Comments on the collection of information must be submitted electronically by 11:59 p.m. (EST) or postmarked by June 12, 2020.

ADDRESSES: Submit electronic comments on the collection of information to: Susan Jenkins, Ph.D. Submit written comments on the collection of information to Administration for Community Living, Washington, DC 20201, Attention: Susan Jenkins, Ph.D.

FOR FURTHER INFORMATION CONTACT: Susan Jenkins, Ph.D., Administration for Community Living, Washington, DC 20201, 202.795.7369; Susan.Jenkins@acl.hhs.gov.

SUPPLEMENTARY INFORMATION: Under the PRA (44 U.S.C. 3501-3520), Federal agencies must obtain approval from the Office of Management and Budget (OMB) for each collection of information they conduct or sponsor. A “Collection of information” is defined as and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The mission of the Administration for Community Living (ACL) ¹ is to maximize the independence, well-being, and health of older adults, people with disabilities across the lifespan, and their families and caregivers. The Long-Term Care Ombudsman Program serves individuals living in long-term care facilities (nursing homes, residential care communities, such as assisted living and similar settings) and works to resolve resident problems related to poor care, violation of rights, and quality of life. Ombudsman programs also advocate at the local, state and national levels to promote policies and consumer protections to improve residents' care and quality of life.

¹ In April 2012, a new Operating Division was created within the US Department of Health and Human Services named the Administration for Community Living (ACL). This Operating Division contains the Administration on Aging (AoA). This document consistently refer to the federal agency as “ACL/AoA.”

This data collection is part of an outcome evaluation of the Long-term Care Ombudsman Program (LTCOP) designed to determine the efficacy of LTCOP in carrying out core functions as described in the Older Americans Act, the long-term impacts of the LTCOP's for various stakeholders, what system advocacy among Ombudsman programs looks like, and effective or promising Ombudsman program practices. The efficacy of LTCOP in carrying out core functions as described in the Older Americans Act. ACL is interested in learning:

1. Are the critical functions, including federally mandated responsibilities, of the LTCOP at the state, and local levels, carried out effectively and efficiently?

2. How effective is the LTCOP in ensuring Ombudsman services for the full range of residents of long-term care facilities, including individuals with the greatest economic and social needs?

3. How cost-effective LTCOP strategies are, for example, the cost effectiveness of services offered through consultations, referrals, complaint handling, and via education and outreach activities.

4. What impact do LTCOPs have on long-term care practices, programs, and policies?

5. What impact do LTCOPs have on residents' health, safety, welfare, well-being, and rights?

Act (OAA) programs such as Title VII Long-Term Care Ombudsman Program (LTCOP), ACL/AoA seeks increased understanding of how these programs are operationalized at the State and local levels and their progress towards their goals and mission. This information will enable ACL/AoA to effectively report its results to the President, to Congress, to the Department of Health and Human Services and to the public.

The information will also aid in program refinement and continuous improvement. The more productive ACL/AoA's programs, the greater the number of older adults have access to a higher quality of life. Therefore, in addition to the legislative mandate under the OAA, it is important for program integrity and function to evaluate the LTCOP.

To comment and review the proposed data collection please visit the ACL website at https://www.acl.gov/about-acl/public-input.

Estimated Program Burden

ACL estimates the burden associated with this collection of information as follows:

Respondent/data collection activity | Number of respondents | Responses per respondent | Hours per response | Annual burden hours
Focus Group—Facility staff including participant information | 16 | 1 | 0.33 | 5.3
Focus Group—Residents/family including participant information | 24 | 1 | 1 | 24
Interview—Stakeholders | 40 | 1 | 1 | 40
Survey—Facility Administrator | 1840 | 1 | 0.33 | 607.2
Survey—Former Ombudsmen | 12 | 1 | 1 | 12
Survey—SUA director | 53 | 1 | 0.5 | 26.5
Total: | 1985 |  | 4.16 | 715

Dated: April 6, 2020.
Mary Lazare,
Principal Deputy Administrator.

[FR Doc. 2020-07668 Filed 4-10-20; 8:45 am]

BILLING CODE 4154-01-P